NATIONAL AERONAUTICS AND SPACE ADMINISTRATION

[Notice: 23-062]

Name of Information Collection: JSC Form 1830—Report of Medical Examination

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by July 13, 2023.

ADDRESSES: Written comments and recommendations for this information collection should be sent within 30 days of publication of this notice to www.reginfo.gov/public/do/PRAMain. Find this particular information collection by selecting “Currently under 30-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-7998, or b.edwards-bodmer@nasa.gov.

SUPPLEMENTARY INFORMATION:

I. Abstract

Since the mid-1960s, neutral buoyancy has been an invaluable tool for testing procedures, developing hardware, and training astronauts. Neutrally buoyant conditions sufficiently simulate reduced gravity conditions, comparable to the environmental challenges of space. The Neutral Buoyancy Laboratory (NBL) at NASA Johnson Space Center (JSC) provides opportunities for astronauts to practice future on-orbit procedures, such as extravehicular activities (EVA), and to work through simulation exercises to solve problems encountered on-orbit. NASA hires individuals with demonstrated diving experience as NBL Working Divers in teams comprised of four divers; two safety divers, one utility diver, and one cameraman to assist astronauts practice various tasks encountered in space.

NASA allows guest divers, typically non-federal photographers representing the media, opportunities to engage in the NBL diving experience. To participate, guest divers must present a dive physical, completed within one year of the targeted diving opportunity, for review by the NASA Buoyancy Lab Dive Physician.

If the guest diver does not have a current U.S. Navy, Association of Diving Contractors (ADC), or current British standard for commercial diving physical, they are required to complete a medical examination, performed by a certified Diving Medical Examiner. The results of the physical will be documented by on the JSC Form 1830/Report of Medical Examination for Applicant and presented for review prior to participating in diving activities conducted at the JSC Neutral Buoyancy Lab. The associated cost for guest divers to complete the medical examination will vary, typically based on the guest diver's insurance.

A completed JSC Form 1830/Report of Medical Examination, with test results attached as applicable, must be submitted to enable NASA to validate an individual's physical ability to dive in the NBL at NASA Johnson Space Center. The completed JSC Form 1830 will be protected in accordance with the Privacy Act. Records will be retained in accordance with NASA Records Retention Schedules.

II. Methods of Collection

Paper.

III. Data

Title: JSC Neutral Buoyancy Lab Guest Diver Physical Exam Results.

OMB Number: 2700-0170.

Type of Review: Existing collection in use without an OMB Control Number.

Affected Public: Individuals.

Estimated Annual Number of Activities: 175.

Estimated Number of Respondents per Activity: 60 minutes.

Annual Responses: 30.

Estimated Time per Response: 60 minutes.

Estimated Total Annual Burden Hours: 175.

Estimated Total Annual Cost: $6,125.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-12561 Filed 6-12-23; 8:45 am]

BILLING CODE 7510-13-P